DEPARTMENT OF HEALTH AND HUMAN SERVICES

Centers for Disease Control and Prevention

[Program Announcement 04012]

HIV Prevention Projects; Notice of Availability of Funds; Amendment

A notice announcing the availability of fiscal year (FY) 2004 funds for cooperative agreements for HIV prevention projects was published in the Federal Register July 10, 2003, Volume 68, Number 132, pages 41138-41147. The notice is amended as follows:

On page 41138, first column, section “A. Authority and Catalog of Federal Domestic Assistance Number,” please amend the CFDA number from 93.943 to 93.340.

Dated: December 22, 2003.
Sandra R. Manning,
Director, Procurement and Grants Office, Centers for Disease Control and Prevention.

[FR Doc. 03-31973 Filed 12-29-03; 8:45 am]

BILLING CODE 4163-18-P